DEPARTMENT OF COMMERCE

International Trade Administration

[A-533-809]

Stainless Steel Flanges from India: Extension of Time Limit for the Preliminary Results of Antidumping Duty Administrative Review

AGENCY: Import Administration, International Trade Administration, Department of Commerce.

ACTION: Extension of Time Limit for the Preliminary Results of Antidumping Duty Administrative Review.

SUMMARY: The Department of Commerce (the Department) is extending the due date for the preliminary results of review of the antidumping duty order on stainless steel flanges from India from October 31, 2004, to February 28, 2005.

EFFECTIVE DATE: October 29, 2004.

FOR FURTHER INFORMATION CONTACT: Fred Baker or Robert James, AD/CVD Operations, Office 7, Import Administration, International Trade Administration, U.S. Department of Commerce, 14th Street and Constitution Avenue, NW., Washington, DC 20230; telephone (202) 482-2924 or (202) 482-0649, respectively.

SUPPLEMENTARY INFORMATION:

Background

On February 9, 1994, the Department published the antidumping duty order on stainless steel flanges from India. See Amended Final Determination and Antidumping Duty Order; Certain Forged Stainless Steel Butt-Weld Flanges from India, 59 FR 5994 (February 9, 1994). On February 27, 2004, Echjay Forgings and the Viraj Group, producers of the subject merchandise, requested reviews of their U.S. sales during the period February 1, 2003, through January 31, 2004. On March 26, 2004, the Department published a notice initiating the requested reviews. See Initiation of Antidumping and Countervailing Duty Administrative Reviews and Requests for Revocation in Part, 69 FR 15788, (March 26, 2004).

Extension of Time Limit for Preliminary Results

The Tariff Act of 1930, as amended (the Act), at section 351(a)(3)(A), provides that the Department will issue the preliminary results of an administrative review of an antidumping duty order within 245 days after the last day of the anniversary month of the date of publication of the order. The Act provides further that if the Department determines that it is not practicable to complete the review within this time period, the Department may extend the 245-day period to 365 days.

The Department has determined that it is not practicable to complete the preliminary results by the current 245-day deadline of October 31, 2004. There are a number of discrepancies in the submitted data that require additional information and analysis. These discrepancies pertain, inter alia, to control numbers, customer categories, and claimed adjustments (e.g., duty drawback). We require additional time to analyze the questionnaire responses and issue supplemental questionnaires. Therefore, in accordance with section 751(a)(3)(A) of the Act, and 19 CFR 351.213(h)(2), the Department is extending the time limit for the preliminary results by 120 days to February 28, 2005.

This notice of postponement is in accordance with section 751(a)(3)(A) of the Act.

Dated: October 18, 2004.
Jeffrey A. May,
Deputy Assistant Secretary for Import Administration.

[FR Doc. E4-2915 Filed 10-28-04; 8:45 am]

BILLING CODE 3510-DS-S